FEDERAL COMMUNICATIONS COMMISSION

[FR ID 173776]

Deletion of Item From September 21, 2023 Open Meeting

The following item was adopted by the Commission on September 18, 2023 and deleted from the list of items scheduled for consideration at the Thursday, September 21, 2023, Open Meeting. The item was previously listed in the Commission's Sunshine Notice on Thursday, September 14, 2023.

4 | MEDIA | TITLE: Updating Obsolete TV Broadcasting Rules (MB Docket No. 22-227)
|  | SUMMARY: The Commission will consider a Report and Order which would amend Part 73 of the Commission's Rules to update Television and Class A Television Broadcast Station Rules as well as certain rules applicable to all broadcast stations. This would ensure the FCC's rules better reflect the current broadcast TV operating environment including changes related to major developments like the transition from analog to digital-only operations and the post-incentive auction transition to a smaller television band with fewer channels.

Federal Communications Commission.
Dated: September 19, 2023.
Marlene Dortch,
Secretary.

[FR Doc. 2023-20842 Filed 9-25-23; 8:45 am]

BILLING CODE 6712-01-P